SECURITIES AND EXCHANGE COMMISSION

[Release No. 34-101666; File No. SR-BX-2024-019]

Self-Regulatory Organizations; Nasdaq BX, Inc.; Notice of Withdrawal of a Proposed Rule Change To Adopt an OTTO Protocol

November 20, 2024.

On June 26, 2024, Nasdaq BX, Inc. (“BX” or “Exchange”) filed with the Securities and Exchange Commission (“Commission”), pursuant to Section 19(b)(1) of the Securities Exchange Act of 1934 (“Act”),¹ and Rule 19b-4 thereunder,² a proposed rule change to adopt an OTTO protocol and associated fee. The proposed rule change was immediately effective upon filing with the Commission pursuant to Section 19(b)(3)(A) of the Act.³ On July 15, 2024, the proposed rule change was published for comment in the Federal Register.⁴ On August 23, 2024, the Commission issued an order temporarily suspending the proposed rule change pursuant to Section 19(b)(3)(C) of the Act ⁵ and simultaneously instituting proceedings under Section 19(b)(2)(B) of the Act ⁶ to determine whether to approve or disapprove the proposed rule change.⁷ On November 15, 2024, the Exchange withdrew the proposed rule change (SR-BX-2024-019).

¹ 15 U.S.C. 78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release No. 100479 (July 9, 2024), 89 FR 57485.

⁵ 15 U.S.C. 78s(b)(3)(C).

⁶ 15 U.S.C. 78s(b)(2)(B).

⁷ See Securities Exchange Act Release No. 100810, 89 FR 70234 (August 29, 2024). The Commission has received one comment letter on the proposed rule change, as well as a response from the Exchange to the Order Instituting Proceedings. Comments received on the proposed rule change are available at: https://www.sec.gov/comments/sr-bx-2024-019/srbx2024019.htm.

For the Commission, by the Division of Trading and Markets, pursuant to delegated authority.⁸

⁸ 17 CFR 200.30-3(a)(12).

Sherry R. Haywood,
Assistant Secretary.

[FR Doc. 2024-27613 Filed 11-25-24; 8:45 am]

BILLING CODE 8011-01-P